DEPARTMENT OF VETERANS AFFAIRS

[OMB Control No. 2900-0761]

Proposed Collection of Information; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed revised collection, and allow 60 days for public comment in response to the notice. This notice solicits comments on the correspondence survey that will allow Veterans an opportunity to provide anonymous feedback on how well the HEC addressed their letter. HEC will use this feedback to improve the correspondence processes. The goal of the Customer Modality Survey is to implement a survey process that allows the organization to be proactive in caring for Veterans prior to them receiving services.

DATES: Written comments and recommendations on the proposed collection of information should be received on or before November 15, 2013.

ADDRESSES: Submit written comments on the collection of information through Federal Docket Management System (FDMS) at www.Regulations.gov; or to Cynthia Harvey-Pryor, Veterans Health Administration (10B4), Department of Veterans Affairs, 810 Vermont Avenue NW, Washington, DC 20420; or email: cynthia.harvey-pryor@va.gov. Please refer to “OMB Control No. 2900-0761” in any correspondence. During the comment period, comments may be viewed online through the FDMS.

FOR FURTHER INFORMATION CONTACT: Cynthia Harvey-Pryor at (202) 461-5870 or fax (202) 495-5397.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Health Eligibility Center (HEC) Correspondence Satisfaction Letter and Customer Modality Survey

a. Customer Modality Administrative Survey, VA Form 10-0151.

b. VA Form Letter 10-491 & HEC Online Survey, 10-211007.

OMB Control Number: 2900-0761

Type of Review: Revision of a currently approved collection.

Abstract: The HEC goal is to respond to Veterans correspondence, addressing their concerns in a concise and understandable manner. The correspondence survey will allow Veterans an opportunity to provide anonymous feedback on how well the HEC addressed their letter. The Customer Modality Survey is to implement a survey process that allows the organization to be proactive in caring for Veterans prior to them receiving services.

Affected Public: Individuals or households.

Estimated Annual Burden:

a. VA Form 10-0151—11,551 burden hours.

b. VA Form Letter 10-491 & HEC Online Survey 10-211007—83,677 burden hours.

Estimated Average Burden Per Respondent:

a. VA Form 10-0151—4.2 minutes.

b. VA Form Letter 10-491 & HEC Online Survey 10-211007—23 minutes.

Frequency of Response:

a. VA Form 10-0151—1.53 annual.

b. VA Form Letter 10-491 & HEC Online Survey 10-211007—1.9 annual.

Estimated Number of Respondents:

a. VA Form 10-0151—107,851.

b. VA Form Letter 10-491 & HEC Online Survey 10-211007—114,889

Total Annual Responses:

a. VA Form 10-0151—165,012.

b. VA Form Letter 10-491 & HEC Online Survey 10-211007—218,289.

Dated: September 10, 2013.
By direction of the Secretary.
Crystal Rennie,
Department Clearance Officer, U.S. Department of Veterans Affairs.

[FR Doc. 2013-22372 Filed 9-13-13; 8:45 am]

BILLING CODE 8320-01-P